COMMITTEE FOR PURCHASE FROM PEOPLE WHO ARE BLIND OR SEVERELY DISABLED

Procurement List; Proposed Addition and Deletions

AGENCY: Committee for Purchase from People Who Are Blind or Severely Disabled.

ACTION: Proposed Addition to and Deletions from Procurement List.

SUMMARY: The Committee is proposing to add to the Procurement List product to be furnished by nonprofit agencies employing persons who are blind or have other severe disabilities, and to delete products previously furnished by such agencies.

Comments Must be Received on or Before: November 12, 2006.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a) (2) and 41 CFR 51-2.3. Its purpose is to provide interested persons an opportunity to submit comments on the proposed actions.

Addition

If the Committee approves the proposed addition, the entities of the Federal Government identified in this notice for each product will be required to procure the product listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product to the Government.

2. If approved, the action will result in authorizing small entities to furnish the product to the Government.

3. There are no known regulatory alternatives which would accomplish the objectives of the Javits-Wagner-O'Day Act (41 U.S.C. 46-48c) in connection with the product proposed for addition to the Procurement List.

Comments on this certification are invited. Commenters should identify the statement(s) underlying the certification on which they are providing additional information.

End of Certification

The following product is proposed for addition to Procurement List for production by the nonprofit agency listed:

Product

Pharmaceutical Container/Bottle

6530-00-NIB-0130—Pharmaceutical plastic container/bottle, made of high-density polyethylene, round wide mouth, white with 38-400 CRC (Child Resistant Closure), screw cap 100cc.

6530-00-NIB-0131—Pharmaceutical plastic container/bottle, made of high-density polyethylene, round wide mouth, white with 38-400 CRC (Child Resistant Closure), screw cap 150cc.

6530-00-NIB-0132—Pharmaceutical plastic container/bottle, made of high-density polyethylene, round wide mouth, white with 45-400 CRC (Child Resistant Closure), screw cap 300cc.

6530-00-NIB-0133—Pharmaceutical plastic container/bottle, made of high-density polyethylene, round wide mouth, white with 45-400 CRC (Child Resistant Closure), screw cap 500cc.

NPA: Alphapointe Association for the Blind, Kansas City, Missouri.

Contracting Activity: Health & Human Services, Program Support Center, Perry Point, Maryland.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Computer Accessories

7045-01-483-7836—Quick Keyboard Drawer

7045-01-483-7839—Ergo Gel Keyboard Drawer

7045-01-483-7843—Vision Guard Plus Anti-Glare Screen

7045-01-483-7449—Disk File 100 for 3½″ Disks

NPA: Wiscraft Inc.—Wisconsin Enterprises for the Blind, Milwaukee, Wisconsin.

Contracting Activity: Office Supplies & Paper Products Acquisition Ctr, New York, New York.

Drape, Surgical

6530-00-299-9604

6530-00-299-9605

6530-00-299-9607

6530-00-299-9608

NPAs: Mississippi Industries for the Blind, Jackson, Mississippi, Alabama Industries for the Blind, Talladega, Alabama, In-Sight, Warwick, Rhode Island.

Contracting Activity: Defense Supply Center Philadelphia, Philadelphia, Pennsylvania.

Suture Removal Kit

6515-01-443-0976

NPA: Washington-Greene County Branch, PAB, Washington, Pennsylvania.

Contracting Activity: Veterans Affairs National Acquisition Center, Hines, Illinois.

Mask, Surgical

6515-00-982-7493

NPAs: Washington-Greene County Branch, PAB, Washington, Pennsylvania, Susquehanna Association for the Blind and Visually Impaired, Lancaster, Pennsylvania, Industries of the Blind, Inc., Greensboro, North Carolina.

Contracting Activity: Defense Supply Center Philadelphia, Philadelphia, Pennsylvania.

Contracting Activity: Veterans Affairs National Acquisition Center, Hines, Illinois.

Mat, Floor

7220-00-205-3182—For Chairs 49″ × 55″

7220-00-205-3192—For Chairs 36″ × 48″

NPA: Northeastern Michigan Rehabilitation and Opportunity Center (NEMROC), Alpena, Michigan.

Contracting Activity: GSA, Southwest Supply Center, Fort Worth, Texas.

Tape, Electronic Data Processing

7045-01-293-4809

NPA: North Central Sight Services, Inc., Williamsport, Pennsylvania.

Contracting Activity: Defense Supply Center Columbus, Columbus, Ohio.

Maptacks

7510-00-272-3099—Maptacks, White

7510-00-285-5844—Maptacks, Assorted Colors

NPA: Delaware County Chapter, NYSARC, Inc., Walton, New York

Contracting Activity: Office Supplies & Paper Products Acquisition Center, New York, New York

Tracheotomy Care Kit

6515-01-447-1720

NPA: Washington-Greene County Branch, PAB, Washington, Pennsylvania.

Contracting Activity: Veterans Affairs National Acquisition Center, Hines, Illinois.

Sheryl D. Kennerly,
Director, Information Management.

[FR Doc. E6-17024 Filed 10-12-06; 8:45 am]

BILLING CODE 6353-01-P